DEPARTMENT OF DEFENSE

Defense Acquisition Regulations System

48 CFR Parts 204 and 252

RIN 0750-AG47

Defense Federal Acquisition Regulation Supplement; Safeguarding Unclassified DoD Information (DFARS Case 2011-D039)

AGENCY: Defense Acquisition Regulations System, Department of Defense (DoD).

ACTION: Notice of meeting.

SUMMARY: DoD is hosting a public meeting to initiate a dialogue with industry and Government agencies regarding the proposed rule for the safeguarding of unclassified information.

DATES: Public Meeting: November 15, 2011, from 9:30 a.m. to 12 p.m. EST.

Submission of Comments: Comments on the proposed rule should be submitted in writing to the address shown below on or before December 16, 2011, to be considered in the formation of the final rule.

ADDRESSES: Public Meeting: The public meeting will be held in the General Services Administration (GSA), Central Office Auditorium, 1800 F Street NW., Washington, DC 20405. The GSA Auditorium is located on the main floor of the building.

Submission of Comments: You may submit written comments, identified by DFARS Case 2011-D039, using any of the following methods:

○ Regulations.gov: http://www.regulations.gov. Submit comments via the Federal eRulemaking portal by inputting “DFARS Case 2011-D039” under the heading “Enter keyword or ID” and selecting “Search.” Select the link “Submit a Comment” that corresponds with “DFARS Case 2011-D039.” Follow the instructions provided at the “Submit a Comment” screen. Please include your name, company name (if any), and “DFARS Case 2011-D039” on your attached document.

○ Email: dfars@osd.mil. Include DFARS Case 2011-D039 in the subject line of the message.

○ Fax: (703) 602-0350.

○ Mail: Defense Acquisition Regulations System, Attn: Mr. Julian Thrash, OUSD(AT&L)DPAP(DARS), Room 3B855, 3060 Defense Pentagon, Washington, DC 20301-3060.

Comments received generally will be posted without change to http://www.regulations.gov, including any personal information provided. To confirm receipt of your comment, please check www.regulations.gov approximately two to three days after submission to verify posting (except allow 30 days for posting of comments submitted by mail).

FOR FURTHER INFORMATION CONTACT: Mr. Julian E. Thrash, telephone (703) 602-0310.

SUPPLEMENTARY INFORMATION: The DFARS does not presently address the safeguarding of unclassified DoD information within industry, nor does it address cyber intrusion reporting for that information. DoD published an Advance Notice of Proposed Rulemaking, and notice of public meeting in the Federal Register at 75 FR 9563 on March 3, 2010, to provide the public an opportunity for input into the initial rulemaking process. Subsequently, a proposed DFARS rule was published in the Federal Register at 76 FR 38089 on June 29, 2011. The proposed rule addresses basic and enhanced safeguarding procedures for the protection of DoD information. An extension of the public comment period to November 30, 2011, was published in the Federal Register at 76 FR 52297 on August 22, 2011. This notice further extends the public comment period to December 16, 2011.

Registration: Individuals wishing to attend the public meeting should register by November 4, 2011, to ensure adequate room accommodations and to create an attendee list for secure entry to the GSA building for anyone who is not a Federal Government employee with a Government badge. Interested parties may register at this Web site, http://www.acq.osd.mil/dpap/dars/safeguarding_unclassified_DoD_information.html, by providing the following information:

(1) Company or organization name;

(2) Names and email addresses of persons attending;

(3) Last four digits of social security number for each attendee (non-Federal employees only); and

(4) Identify presenter if desiring to speak (limited to a 10-minute presentation per company or organization).

Attendees are encouraged to arrive at least 30 minutes early to ensure they are processed through security in a timely fashion. Prior registrants will be given priority if room constraints require limits on attendance.

Special Accommodations: The public meeting location is physically accessible to persons with disabilities. Requests for sign language interpretation or other auxiliary aids should be directed to Mr. Julian E. Thrash, telephone (703) 602-0310, at least 10 working days prior to the meeting date.

Presentations: If an attendee wishes to present a short oral presentation at the meeting not-to-exceed 10 minutes, please advise during registration so appropriate arrangements can be made for scheduling purposes. If the presenter intends to share a handout to accompany an oral statement, please submit the document to dfars@osd.mil for posting no later than November 10, 2011, so that other attendees may download prior to the meeting. When submitting briefing information, provide the presenter's name, organization affiliation, telephone number, and email address on the cover page.

Correspondence and Comments: Please cite “Public Meeting, DFARS Case 2011-D039” in all correspondence related to this public meeting. The submitted presentations will be the only record of the public meeting. To have a presentation considered as a public comment for the formation of the final rule, the presentation, or pertinent excerpts, must be submitted separately as a written comment as instructed in the above paragraph titled, “Submission of Comments.”

Government procurement.

Mary Overstreet,
Editor, Defense Acquisition Regulations System.

[FR Doc. 2011-27931 Filed 10-27-11; 8:45 am]

BILLING CODE 5001-06-P